DEPARTMENT OF AGRICULTURE

Animal and Plant Health Inspection Service

[Docket No. 02-009-1]

Fruit Fly Cooperative Control Program; Record of Decision Based on Final Environmental Impact Statement—2001

AGENCY: Animal and Plant Health Inspection Service, USDA.

ACTION: Notice.

SUMMARY: This notice advises the public of the Animal and Plant Health Inspection Service's record of decision for the Fruit Fly Cooperative Control Program final environmental impact statement.

ADDRESSES: Copies of the record of decision and the final environmental impact statement on which the record of decision is based are available for public inspection at USDA, room 1141, South Building, 14th Street and Independence Avenue SW., Washington, DC, between 8 a.m. and 4:30 p.m., Monday through Friday, except holidays. To be sure someone is there to help you, please call (202) 690-2817 before coming. The documents may also be viewed on the Internet at http://www.aphis.usda.gov/ppd/es/ppq/fffeis.pdf.

Copies of the record of decision and the final environmental impact statement may be obtained from:

Environmental Services, PPD, APHIS, USDA, 4700 River Road Unit 149, Riverdale, MD 20737-1237; (301) 734-6742; Western Regional Office, PPQ, APHIS, USDA, 1629 Blue Spruce, Suite 204, Ft. Collins, CO 80524; or

Eastern Regional Office, PPQ, APHIS, USDA, 920 Main Campus, Suite 200, Raleigh, NC 27606-5202.

FOR FURTHER INFORMATION CONTACT: Mr. Harold Smith, Environmental Protection Officer, Environmental Services, PPD, APHIS, 4700 River Road Unit 149, Riverdale, MD 20737-1237; (301) 734-6742.

SUPPLEMENTARY INFORMATION: This notice advises the public that the Animal and Plant Health Inspection Service (APHIS) has prepared a record of decision based on the Fruit Fly Cooperative Control Program final environmental impact statement. This record of decision has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

The Agency record of decision is set forth below.

Record of Decision; Fruit Fly Cooperative Control Program; Final Environmental Impact Statement—2001

Decision

The U.S. Department of Agriculture (USDA), Animal and Plant Health Inspection Service (APHIS) has prepared a final environmental impact statement (EIS) for its Fruit Fly Cooperative Control Program. The EIS analyzed alternatives for control of various exotic fruit fly pests that threaten United States agricultural and environmental resources. After considering fully the analysis presented in the EIS (including supportive documents cited or incorporated by reference), I have accepted the findings of the EIS.

The selection of alternatives for individual future fruit fly programs will be on an individual basis, made only after site-specific assessment of the individual program areas. The selection of an alternative (and its associated control methods) will consider the findings of the EIS, the site-specific assessment, the public response, and any other relevant information available to APHIS at the time. APHIS will conduct environmental monitoring, and prepare environmental monitoring plans that are specific to each program, which will describe the purpose of the monitoring and the nature of the samples to be collected and analyzed. Also, APHIS will implement an emergency response communication plan for each future program that has been designed to reduce risk to the public. I have determined that this course of action includes all practicable means to avoid or minimize environmental harm from fruit fly control measures that may be employed by APHIS in future fruit fly control programs.

Alternatives Considered

The alternatives considered within the EIS include: No action, a nonchemical program, and an integrated program (the preferred alternative). The integrated program alternative includes both nonchemical and chemical component methods. The alternatives are broad in scope and reflect the major choices that must be made for future programs. In addition to control methods, the action alternatives include exclusion (quarantines and inspections) and detection and prevention (including sterile insect technique) methods. The EIS considered and compared the potential impacts of the alternatives as well as their component control methods.

Decisional Background

In arriving at this decision, I have considered pertinent risk analyses, chemical background statements, information on endangered and threatened species, and other technical documents whose analyses and conclusions were integrated into and summarized within the EIS. I have also considered APHIS' responsibilities under various statutes or regulations, the technological feasibilities of the alternatives and control methods, and public perspectives relative to environmental issues. Although scientific controversy may exist relative to the severity of potential impacts, especially with regard to pesticide impacts, I am satisfied that APHIS has estimated correctly the impacts of alternatives for fruit fly control.

APHIS understands the potential consequences of control methods (especially chemical control methods) used for fruit fly control. Chemical control methods have greater potential for direct adverse environmental consequences than nonchemical control methods. Chemical pesticides have the potential to adversely affect human health, nontarget species, and physical components of the environment. APHIS fully appreciates the dangers pesticides may pose, especially to sensitive members of communities, and consequently has made a significant effort to research and develop the use of newer, less harmful pesticides. One such pesticide, the microbially produced biological insecticide spinosad, shows great promise and will be used as a direct replacement for malathion where possible in future fruit fly programs.

APHIS is committed to the rational use of chemical pesticides and strives to reduce their use wherever possible. However, APHIS has statutory obligations that require it to act decisively to eliminate foreign fruit fly pests that invade our country. Given the current state of control technology, we believe that nonchemical control methods (used exclusively) are not capable of eradicating most fruit fly species. We know too that the net result of a decision not to use chemicals would be that other government entities or commercial growers would be likely to use even more chemicals over a wider area, with correspondingly greater environmental impact. APHIS is convinced that coordinated and well-run government programs that limit the use of pesticides to the minimum necessary to do the job are in the best interests of the public and the environment. APHIS continues to support and favor the use of integrated pest management strategies for control of fruit fly pests.

Final Implementation

In all cases, a site-specific assessment will be made prior to the time a decision is made on the control methods that will be used on a particular program. That assessment will consider characteristics such as unique and sensitive aspects of the program area, applicable environmental and program documentation, and applicable new developments in environmental science or control technologies. The site-specific assessment will also confirm the adequacy or need for additional program mitigative measures. Site-specific assessments will be made available to the public, and APHIS will consider the public's perspective relative to individual programs.

To avoid or minimize environmental harm, APHIS will implement appropriate risk reduction strategies, as described in chapter VI of the EIS. These strategies are fully described in the EIS and include but are not limited to the following: Pesticide applicat or certification, training and applicator orientation, special pesticide handling, precautions for pesticide application, identification of sensitive sites, public notification procedures, and interagency coordination and consultation.

(The record of decision was signed by Richard L. Dunkle, Deputy Administrator, Plant Protection and Quarantine, APHIS, on February 5, 2002.)

Done in Washington, DC, this 22nd day of February 2002.
W. Ron DeHaven,
Acting Administrator, Animal and Plant Health Inspection Service.

[FR Doc. 02-4806 Filed 2-27-02; 8:45 am]

BILLING CODE 3410-34-P